DEPARTMENT OF COMMERCE

National Oceanic and Atmospheric Administration Submission for OMB Review; Comment Request

The Department of Commerce will submit to the Office of Management and Budget (OMB) for clearance the following proposal for collection of information under the provisions of the Paperwork Reduction Act.

Agency: National Oceanic and Atmospheric Administration (NOAA).

Title: Northwest Region, Pacific Coast Groundfish Fishery: Trawl Rationalization Cost Recovery Program.

OMB Control Number: 0648-0663.

Form Number(s): None.

Type of Request: Regular submission (extension, without change, of a currently approved collection).

Number of Respondents: 166.

Average Hours per Response: Cost recovery forms (online fee payments): 1 hour; Annual report: 1 hour; Failure to pay report: 4 hours.

Burden Hours: 1,874.

Needs and Uses: The Magnuson-Stevens Fishery Conservation and Management Act authorizes and requires the collection of cost recovery fees for Limited Access Privilege Programs, such as the Pacific Coast Groundfish Trawl Rationalization Program (Trawl Program). Cost recovery fees may not exceed three percent of the ex-vessel value and must recover costs associated with the management, data collection and analysis, and enforcement of these programs. The Trawl Program's cost recovery program requires fish sellers to submit fees to fish buyers who then submit those fees to NOAA's National Marine Fisheries Service (NMFS). Fish buyers must also submit information to NMFS on the volume and value of harvested groundfish when submitting the fees. Information is collected from monthly and annual reports as well as non-payment documents when necessary.

This program is authorized under the Pacific coast groundfish fishery regulations, trawl rationalization cost recovery program at 50 CFR 660.115.

Affected Public: Individuals or households; Business or other for-profit.

Frequency: Monthly (online fee payments), annually (annual reports), occasionally (failure to pay reports).

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Department PRA Clearance Officer, Office of the Chief Information Officer, Commerce Department.

[FR Doc. 2020-00603 Filed 1-15-20; 8:45 am]

BILLING CODE 3510-22-P